INTERNATIONAL TRADE COMMISSION

Agency Information Collection Activities; Proposed Collection; Comment Request

AGENCY: U.S. International Trade Commission.

ACTION: Notice of Proposed Collection; Comment Request.

SUMMARY: Pursuant to the Paperwork Reduction Act of 1995 (44 U.S.C. Ch. 35), the Commission intends to seek approval from the Office of Management and Budget to survey complainants who obtained exclusion orders that are currently in effect from the United States International Trade Commission following proceedings under 19 U.S.C. 1337. The survey will seek feedback on the effectiveness of the exclusion orders in stopping certain imports. Comments concerning the proposed information collection are requested in accordance with 5 CFR 1320.8(d).

DATES: To be assured of consideration, written comments must be received not later than sixty (60) days after publication of this notice.

ADDRESSES: Signed comments should be submitted to Marilyn R. Abbott, Secretary, U.S. International Trade Commission, 500 E Street SW., Washington, DC 20436.

FOR FURTHER INFORMATION CONTACT: Copies of the proposed survey that the Commission will submit to the Office of Management and Budget for approval are posted on the Commission's Internet server at http://www.usitc.gov or may be obtained from Lynn I. Levine, Office of Unfair Import Investigations, U.S. International Trade Commission, 500 E Street SW., Washington, DC 20436, telephone, 202-205-2560.

SUPPLEMENTARY INFORMATION:

Request for Comments

Comments are solicited as to: (1) Whether the proposed information collection is necessary for the proper performance of the functions of the agency, including whether the information will have practical utility; (2) the accuracy of the agency's estimate of the burden of the proposed information collection; (3) the quality, utility, and clarity of the information to be collected; and (4) minimization of the burden of the proposed information collection on those who are to respond.

Summary of the Proposed Information Collection

In its Strategic Plan (available on the agency's Internet server at http://www.usitc.gov) the Commission set itself the goal of obtaining feedback on the effectiveness of its exclusion orders from complainants who obtained such orders under 19 U.S.C. 1337. The survey asks each firm responding to the survey to: (i) Evaluate whether the remedial exclusion order has prevented the importation of items covered by the order, (ii) if not, estimate what are the absolute value and effect in the United States market of such imports, and (iii) indicate what experience it has had in policing the exclusion order, particularly with respect to any investigatory efforts and any interactions with the U.S. Customs Service.

Responses to the survey are voluntary. The Commission estimates that the survey will require less than 1 hour to complete.

By order of the Commission.
Issued: August 30, 2004.
Marilyn R. Abbott,
Secretary to the Commission.

[FR Doc. 04-20080 Filed 9-2-04; 8:45 am]

BILLING CODE 7020-02-P